DEPARTMENT OF ENERGY

Federal Energy Regulatory Commission

[Docket No. RM01-5-000]

Electronic Tariff Filings; Notice of Technical Conference Regarding Electronic Tariff Filing

October 24, 2008.

Take notice that on Wednesday, December 3, 2008, a technical conference will be held to discuss the implementation of electronic tariff filing. In Order No. 714,¹ the Commission adopted regulations requiring that, as of April 10, 2010, tariff and tariff related filings must be made electronically. The Commission adopted a set of protocols and standards developed through a consensus process under the auspices of the North American Energy Standards Board (NAESB) to govern the manner and format in which such filings must be made. NAESB developed these standards and protocols to provide each filing company with the “flexibility to develop software to better integrate tariff filings with their individual tariff maintenance and business needs.” ² As part of the compliance process, the Commission authorized Commission staff to continue their dialog with “the industries involved to help the industries better understand the use of the code values as well as to discuss issues that may arise regarding methods of implementing the standards.” ³

¹ Electronic Tariff Filings, Order No. 714, 73 FR 57,515 (Oct. 3, 2008), 124 FERC ¶ 61,270 (Sept. 19, 2008).

² Order No. 714, at P 9. The Commission also recognized that “these standards and protocols also will provide an open platform permitting third-party software developers to create more efficient tariff filing and maintenance applications, which will spread the development costs over larger numbers of companies.” Id.

³ Order No. 714, at P 88.

This first technical conference is designed to provide tariff filers and third-party software developers with an opportunity to obtain technical information about the requirements of the standards to assist companies in developing software and in determining whether developing or purchasing software would best fit their tariff maintenance needs. The conference also will consider the schedule for future conferences and the subjects to be discussed at those conferences.

The format of the conference will be interactive, and companies are encouraged to ask questions about the technical aspects of the standards. To help Commission staff in planning the conference so that it will provide as much assistance to the industries as possible, participants are encouraged to submit by e-mail in advance of the meeting the topics or questions they would like discussed. Emails should be directed to eTariff@ferc.gov and should include “Discussion Topic” in the subject line.

Background material on the standards and requirements can be found on the Commission's Web site (www.ferc.gov; click on eTariff under the Documents and Filings Heading).

The technical conference is open to the public. The conference will be held from 10 a.m. until 4 p.m. (EDT) at the Federal Energy Regulatory Commission, 888 First Street, NE., Washington, DC 20426. In addition, the conference will be accessible via WebEx and telephone.

Those wishing to participate via a WebEx (http://www.webex.com) computer connection and telephone must submit by no later than November 24, 2008, a request to eTariff@ferc.gov. The e-mail must include Registration in the subject line and the requester's name, e-mail address, and telephone number in the body of the e-mail. Only the first 50 requests to use the WebEx computer connection to view documents can be honored. All telephonic connection requests can be honored. We will notify WebEx requesters if their request to use WebEx computer connections can be granted and will provide the appropriate Logon information by e-mail prior to the conference. We anticipate that most of the material to be referenced on WebEx during the conference is posted on the Commission's Web site, so even those without the WebEx computer connection should be able to follow most of the discussion.

For more information, contact Keith Pierce, Office of Energy Markets and Reliability at (202) 502-8525 or Keith.Pierce@ferc.gov.

Nathaniel J. Davis, Sr.,
Deputy Secretary.

[FR Doc. E8-25918 Filed 10-29-08; 8:45 am]

BILLING CODE 6717-01-P